DEPARTMENT OF TRANSPORTATION

Federal Aviation Administration

Public Notice for Waiver of Aeronautical Land-Use Assurance; Indianapolis Executive Airport, Zionsville, IN

AGENCY: Federal Aviation Administration, DOT.

ACTION: Notice of intent of waiver with respect to land.

SUMMARY: The Federal Aviation Administration (FAA) is considering a proposal to change a portion of the airport from aeronautical use to non-aeronautical use and to authorize the sale of the airport property. The 21.508 acres of land, known as Parcel A on the airports Exhibit A Property Map, is situated southeast of the airport. The land was obligated under FAA Project No(s). 3-18-0103-06. There are no impacts to the airport by allowing the airport to dispose of the property. The land was previously acquired for approach protection under a larger parcel of land purchased from Ms. Lela Covert (listed as Parcel 3 in the current Exhibit A Property Map and Parcel 7 under previous Exhibit A Property Maps). These 21.508 acres of the larger parcel are not needed for approach protection or future airport development. Approval does not constitute a commitment by the FAA to financially assist in the disposal of the subject airport property nor a determination of eligibility for grant-in-aid funding from the FAA. The disposition of proceeds from the disposal of the airport property will be in accordance FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before October 23, 2008.

ADDRESSES: Jack Delaney, Assistant ADO Manager, Chicago Airports District Office, 2300 E. Devon, Chicago, IL 60018.

FOR FURTHER INFORMATION CONTACT: Jack Delaney, Assistant ADO Manager, Chicago Airports District Office, 2300 E. Devon, Chicago, IL 60018. Telephone Number 847-294-7875/FAX Number 847-294-7046. Documents reflecting this FAA action may be reviewed at this same location or at Indianapolis Executive Airport, Indianapolis, Indiana.

SUPPLEMENTARY INFORMATION: Following is a legal description of the property located in Zionsville, Boon County, Indiana, and described as follows:

A part of the Northeast Quarter of Section 12, Township 18 North, Range 2 East, Boone County, Indiana, described as follows: Commencing at the rebar with a plastic cap marked “Mid-States Engr” marking the northwest corner of said quarter section; thence South 00 degrees 56 minutes 54 seconds West along the west line of said quarter section 1,201.59 feet; thence South 89 degrees 52 minutes 48 seconds East 768.09 feet to the POINT OF BEGINNING OF THIS DESCRIPTION: thence North 89 degrees 54 minutes 51 seconds East 1,031.67 feet; thence South 00 degrees 56 minutes 54 seconds West 910.49 feet; thence South 89 degrees 54 minutes 51 seconds West 1,026.64 feet; thence North 00 degrees 37 minutes 55 seconds East 910.41 feet to the POINT OF BEGINNING and containing 21.508 acres, more or less. The bearing in this description are based upon the north line of the Northeast Quarter of section 12 have a bearing of South 89 degrees 52 minutes 48 seconds East.

Issued in Des Plaines, Illinois, on September 9, 2008.
Jim Keefer,
Manager, Chicago Airports District Office, FAA, Great Lakes Region.

[FR Doc. E8-22063 Filed 9-22-08; 8:45 am]

BILLING CODE 4910-13-M